Proclamation 10917 of April 9, 2025

National Former Prisoner of War Recognition Day, 2025

By the President of the United States of America

A Proclamation

On this National Former Prisoner of War Recognition Day, we remember every American service member who carries the memory of being captured in war as a consequence of defending American freedom. Since the battlefields of the Revolutionary War, millions of selfless patriots have sacrificed their lives, safety, and security to protect our homeland and preserve our inheritance of liberty. These noble men and women embody the best of our Nation's spirit. Tragically, far too many have been taken by the enemy and forced to endure captivity and sometimes torture.

My Administration is steadfastly committed to taking care of our great veterans—especially every former American prisoner of war (POW). For 4 long years under the previous administration, illegal aliens were living in luxury hotels while our homeless veterans were shivering on the sidewalks—a disgrace of the highest order. Today, more than 30,000 veterans are homeless. To that end, I am committed to eradicating all veteran homelessness in our country. Under my leadership, if you served our Nation in uniform, your Government will never betray you—and we will never stop fighting for the brave men and women who devoted their lives to protect our sovereignty.

To protect our brave service members and uphold our Nation's interests both at home and abroad, my Administration remains committed to restoring peace through strength and ending the years of endless foreign wars. As I stated during my Inaugural Address, we will measure our success not only by the battles we win, but also by the wars we end—and my proudest legacy will be that of a peacemaker and unifier.

We are approaching the 250th anniversary of the founding of the United States Army later this year, and I pledge to every POW, POW family, and member of our Armed Forces that you have our Nation's full support and unending gratitude. Today and every day, we pay tribute to those who have lost their lives in service to our Nation. We ask Almighty God to preserve America's peace, prosperity, security, and freedom for generations to come.

NOW, THEREFORE, I, DONALD J. TRUMP, President of the United States of America, by virtue of the authority vested in me by the Constitution and the laws of the United States, do hereby proclaim April 9, 2025, as National Former Prisoner of War Recognition Day. I call upon Americans to observe this day by honoring the service and sacrifice of all former prisoners of war and to express our Nation's eternal gratitude for their sacrifice. I also call upon Federal, State, and local government officials and organizations to observe this day with appropriate ceremonies and activities.

IN WITNESS WHEREOF, I have hereunto set my hand this ninth day of April, in the year of our Lord two thousand twenty-five, and of the Independence of the United States of America the two hundred and forty-ninth.

[FR Doc. 2025-06962

Filed 4-21-25; 8:45 am]

Billing code 3395-F4-P